DEPARTMENT OF AGRICULTURE

Natural Resources Conservation Service

Notice To Reinstate a Previously Approved Information Collection

AGENCY: Natural Resources Conservation Service (NRCS), USDA.

ACTION: Notice to reinstate a previously approved information collection for review and comment.

SUMMARY: In accordance with the Paperwork Reduction Act of 1995, this notice announces NRCS' intention to reinstate a previously approved information collection. The collected information will help NRCS match the skills of individuals who are applying for volunteer work that will further the Agency's mission, and provides a timekeeping method for volunteers. Information will be collected from potential volunteers who are 14 years of age or older.

DATES: Comments will be received for a 60-day period commencing with the date of this publication.

Additional Information or Comments: Contact Michele Eginoire, National Volunteer Coordinator, at (515) 289-0325, extension 102. Submit comments to Michele Eginoire by fax at (515) 289-4561, or e-mail: michele.eginoire@ia.usda.gov.

SUPPLEMENTARY INFORMATION: Collection of this information is necessary to match volunteer assignments to Agency mission as required by Federal Personnel Manual, Supplement 296-33, Subchapter 3. Agencies are authorized to recruit, train, and accept with regard to Civil Service classification laws, rules, or regulations, the services of individuals to serve without compensation. Volunteers may assist in any Agency program/project and may perform activities which Agency employees are allowed to perform. Volunteers must be at least 14 years of age. Persons interested in volunteering must write, call, e-mail, or visit NRCS' office. The forms will be available electronically and can be completed electronically.

Description of Information Collection: Form NRCS-PER-002, Volunteer Interest and Placement Summary, is an optional form and assists the volunteer's supervisor in placing the volunteer in a position which is beneficial to the volunteer and the Agency. Form NRCS-PER-004, Time Sheet also is an optional form, which provides the volunteer and volunteer's supervisor a simplified method for tracking the volunteer's time. The above mentioned forms are placed in a volunteer “case file” and will be destroyed 3 years after the volunteer has completed service. In the event that the volunteer is injured, the “case file” will be transferred to an Official Personnel Folder (OPF). Comments are invited on: (1) Whether the proposed collection of information is necessary for the proper performance of the functions of the Agency, including whether the information will have practical utility; (2) the accuracy of the Agency's estimate of the burden of the proposed collection of information, including the validity of the methodology and assumptions used; (3) ways to enhance the quality, utility, and clarity of the information to be collected; and (4) ways to minimize the burden of the collection of information on those who are to respond, including the use of appropriate automated, electronic, mechanical or other technological collection techniques, and other forms of information technology. Comments may be sent to Michele Eginoire, National Earth Team Office, Natural Resources Conservation Service, Suite C, 5140 Park Avenue, Des Moines, Iowa 50321; telephone: (515) 289-0325, extension 102, by fax at (515) 289-4561, or by e-mail: michele.eginoire@ia.usda.gov. All comments received will be available for public inspection during regular business hours at the same address. All responses to this notice will be summarized and included in the request for Office of Management and Budget approval. All comments also will become a matter of public record.

Signed in Washington, DC on October 10, 2008.
Arlen L. Lancaster,
Chief, Natural Resources Conservation Service.

[FR Doc. E8-25074 Filed 10-21-08; 8:45 am]

BILLING CODE 3410-16-P